DEPARTMENT OF ENERGY

Federal Energy Regulatory Commission

Combined Notice of Filings #2

Take notice that the Commission received the following electric rate filings:

Docket Numbers: ER10-2290-012.

Applicants: Avista Corporation.

Description: Triennial Market Power Analysis for Northwest Region of Avista Corporation.

Filed Date: 7/1/25.

Accession Number: 20250701-5436.

Comment Date: 5 p.m. ET 9/2/25.

Docket Numbers: ER10-2475-037; ER10-1520-023; ER10-1521-023; ER10-2474-036; ER10-3246-030; ER11-4666-010; ER11-4667-010; ER12-295-009; ER13-1266-057; ER15-2211-054; ER22-1385-017; ER23-674-013; ER23-676-013; ER24-1587-006.

Applicants: AlbertaEx, L.P., BHE Power Watch, LLC, BHE Wind Watch, LLC, BHER Market Operations, LLC., MidAmerican Energy Services, LLC, CalEnergy, LLC, BHE Rim Rock Wind, LLC, BHE Glacier Wind 2, LLC, BHE Glacier Wind 1, LLC, PacifiCorp, Sierra Pacific Power Company, Occidental Power Marketing, L.P., Occidental Power Services, Inc., Nevada Power Company.

Description: Triennial Market Power Analysis for Northwest Region of Nevada Power Company, et al.

Filed Date: 6/30/25.

Accession Number: 20250630-5364.

Comment Date: 5 p.m. ET 8/29/25.

Docket Numbers: ER14-1594-009; ER14-1596-009.

Applicants: Lone Valley Solar Park II LLC, Lone Valley Solar Park I LLC.

Description: Triennial Market Power Analysis for Southwest Region and Notice of Non-Material Change in Status of Lone Valley Solar Park I LLC, et al.

Filed Date: 6/30/25.

Accession Number: 20250630-5366.

Comment Date: 5 p.m. ET 8/29/25.

Docket Numbers: ER20-2414-007; ER10-2421-016; ER10-2590-012; ER10-2593-012; ER10-2616-031; ER11-2457-016; ER11-4400-028; ER12-75-019; ER12-1769-018; ER12-2251-017; ER12-2252-016; ER12-2253-017; ER14-1569-024; ER14-2245-018; ER15-1596-023; ER15-1599-024; ER19-102-016; ER19-158-019; ER19-2803-015; ER19-2806-012; ER19-2807-016; ER19-2809-015; ER19-2810-015; ER19-2811-015; ER20-2415-007; ER22-2736-003; ER25-12-002; ER25-202-002.

Applicants: Vision Trading Company LLC, Dynegy Energy Services Mid-Atlantic, LLC, Moss Landing Energy Storage 3, LLC, Moss Landing Energy Storage 2, LLC, Viridian Energy, LLC, Viridian Energy PA, LLC, Everyday Energy, LLC, Energy Rewards, LLC, Connecticut Gas & Electric, Inc., Cincinnati Bell Energy LLC, Ambit Northeast, LLC, Luminant Energy Company LLC, Dynegy Energy Services (East), LLC, Luminant Commercial Asset Management LLC, TriEagle Energy, LP, Dynegy Energy Services, LLC, Public Power & Utility of Maryland, LLC, Public Power (PA), LLC, Public Power & Utility of NY, Inc, Viridian Energy NG, LLC, Public Power, LLC, Dynegy Power Marketing, LLC, Massachusetts Gas & Electric, Inc., Dynegy Marketing and Trade, LLC, Oakland Power Company LLC, Moss Landing Power Company LLC, Energy Services Providers, LLC, Moss Landing Energy Storage 1, LLC.

Description: Triennial Market Power Analysis for Southwest Region of Moss Landing Energy Storage 1, LLC, et al.

Filed Date: 6/30/25.

Accession Number: 20250630-5362.

Comment Date: 5 p.m. ET 8/29/25.

Docket Numbers: ER21-2510-001; ER21-2511-001; ER24-697-002; ER24-698-002.

Applicants: Castanea Project, LLC, Westlands Solar Blue (OZ) Owner, LLC, Aquamarine Lessee, LLC, Aquamarine Westside, LLC.

Description: Triennial Market Power Analysis for Southwest Region of Aquamarine Westside, LLC, et al.

Filed Date: 6/30/25.

Accession Number: 20250630-5368.

Comment Date: 5 p.m. ET 8/29/25.

Docket Numbers: ER23-2091-005.

Applicants: Goleta Energy Storage, LLC.

Description: Triennial Market Power Analysis for Southwest Region and Notice of Non-Material Change in Status of Goleta Energy Storage, LLC.

Filed Date: 6/30/25.

Accession Number: 20250630-5367.

Comment Date: 5 p.m. ET 8/29/25.

Docket Numbers: ER25-895-003.

Applicants: BOCA bn, LLC.

Description: Triennial Market Power Analysis for Southwest Region of BOCA bn LLC.

Filed Date: 6/30/25.

Accession Number: 20250630-5363.

Comment Date: 5 p.m. ET 8/29/25.

Docket Numbers: ER25-2375-001.

Applicants: Deseret Generation & Transmission Co-operative, Inc.

Description: Tariff Amendment: 2025 RIA Annual Update Errata to be effective 7/1/2025.

Filed Date: 7/3/25.

Accession Number: 20250703-5067.

Comment Date: 5 p.m. ET 7/24/25.

Docket Numbers: ER25-2784-000.

Applicants: TransWest Express LLC.

Description: § 205(d) Rate Filing: 2025-07-03 TransWest, PCW and CAISO LGIA for Chokecherry & Sierra Madre Project to be effective 9/2/2025.

Filed Date: 7/3/25.

Accession Number: 20250703-5056.

Comment Date: 5 p.m. ET 7/24/25.

Docket Numbers: ER25-2785-000.

Applicants: Midcontinent Independent System Operator, Inc.

Description: § 205(d) Rate Filing: 2025-07-03_SA 4510 Ameren Illinois-Flora Solar GIA (J1679) to be effective 9/2/2025.

Filed Date: 7/3/25.

Accession Number: 20250703-5064.

Comment Date: 5 p.m. ET 7/24/25.

Docket Numbers: ER25-2786-000.

Applicants: Public Service Company of Colorado.

Description: § 205(d) Rate Filing: 2025-07-03-PSC-WAPA-TGST-PRPA-UPI-BAMA-Slater-849-0.0.0 to be effective 8/29/2025.

Filed Date: 7/3/25.

Accession Number: 20250703-5070.

Comment Date: 5 p.m. ET 7/24/25.

Docket Numbers: ER25-2788-000.

Applicants: PJM Interconnection, L.L.C.

Description: § 205(d) Rate Filing: Amendment to ISA, SA No. 6834; Queue No. AE2-113 to be effective 7/2/2025.

Filed Date: 7/3/25.

Accession Number: 20250703-5101.

Comment Date: 5 p.m. ET 7/24/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: July 3, 2025.
Debbie-Anne A. Reese,
Secretary.

[FR Doc. 2025-12755 Filed 7-8-25; 8:45 am]

BILLING CODE 6717-01-P